DEPARTMENT OF STATE

[Public Notice 3670]

Notice of Meeting of the Cultural Property Advisory Committee

ACTION: Notice.

The Cultural Property Advisory Committee will meet on Wednesday, June 13, 2001, from approximately 9 a.m. to 5 p.m., and on Thursday, June 14, from approximately 9 a.m. to 5 p.m., at the Department of State, Annex 44, Room 800-A, 301 4th St., SW., Washington, DC. During its meeting the Committee will review the proposal to extend the Memorandum of Understanding between the Government of the United States of America and the Government of Peru concerning the Imposition of Import Restrictions on Archaeological Material from the Prehispanic Cultures and Certain Ethnological Material from the Colonial Period of Peru. The Committee's responsibilities are carried out in accordance with the provisions of the Convention on Cultural Property Implementation Act 19 U.S.C. 2601 et seq.). A copy of the Act, the subject Memorandum of Understanding, and related information may be found at this web site: http://exchanges.state.gov/education/culprop.

During its meeting on June 13, the Committee will hold an open session, 9:15-10:45 a.m. to receive public comment on the proposal to extend the Memorandum of Understanding. The Committee also invites written comment, and requests that both oral and written comments be limited to the proposal to extend the US-Peru Memorandum of Understanding. Other portions of the meeting on June 13 and 14 will be closed pursuant to 5 U.S.C. 552b(c)(9)(B) and 19 U.S.C. 2605(h). Written comments may be sent to Cultural Property, Department of State, Annex 44, 301 4th Street, SW., Rm. 247, Washington, DC 20547; or faxed to (202) 619-5177. Persons wishing to attend the open portion of the meeting on June 13, must notify the Cultural Property Office, (202) 619-6612, no later than 3 p.m., Friday, June 8, 2001, to arrange for admission. Seating is limited.

Dated: May 8, 2001.
Helena Kane Finn,
Acting Assistant Secretary for Educational and Cultural Affairs, Department of State.

[FR Doc. 01-12051 Filed 5-10-01; 8:45 am]

BILLING CODE 4710-11-P